DEPARTMENT OF STATE

[Public Notice 11790]

Review of the Designations as Foreign Terrorist Organizations of Communist Party of the Philippines New People's Army and Jaish-e-Mohammed (and Other Aliases)

Based on a review of the Administrative Record assembled pursuant to Section 219(a)(4)(C) of the Immigration and Nationality Act, amended (8 U.S.C. 1189(a)(4)(C))(“INA”), and in consultation with the Attorney General and the Secretary of the Treasury, I conclude that the circumstances that were the bases for the designations of the aforementioned organizations as Foreign Terrorist Organizations have not changed in such a manner as to warrant revocation of the designations and that the national security of the United States does not warrant a revocation of the designations.

Therefore, I hereby determine that the designation of the aforementioned organizations as Foreign Terrorist Organizations, pursuant to Section 219 of the INA (8 U.S.C. 1189), shall be maintained.

This determination shall be published in the Federal Register.

Dated: July 6, 2022.
Antony J. Blinken,
Secretary of State.

[FR Doc. 2022-15383 Filed 7-18-22; 8:45 am]

BILLING CODE 4710-AD-P